DEPARTMENT OF STATE

[Public Notice 6602]

Advisory Committee on International Communications and Information Policy; Notice of Committee Renewal

The Department of State has renewed the Charter of the Advisory Committee on International Communications and Information Policy (ACICIP) for an additional two years.

The Committee serves the Department of State in a solely advisory capacity regarding current issues and concerns affecting international communications and information policy. ACICIP members are private sector communications and information technology specialists from U.S. telecommunications companies, trade associations, policy institutions, and academia. The Committee meets at least annually.

For further information, please call Joseph Burton, Executive Secretary, Advisory Committee on International Communications and Information Policy, Office of Communications and Information Policy, Economic, Energy and Business Affairs Bureau, U.S. Department of State, at (202) 647-5231.

Dated: March 26, 2010.
Joseph Burton,
Designated Federal Officer, U.S. Department of State.

[FR Doc. 2010-8396 Filed 4-12-10; 8:45 am]

BILLING CODE 4710-07-P